DEPARTMENT OF JUSTICE

Antitrust Division

Notice Pursuant to the National Cooperative Research and Production Act of 1993—National Armaments Consortium

Notice is hereby given that, on January 10, 2020, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, AirBorn Interconnect, Inc., Georgetown, TX; Rapid Imaging Technologies LLC, Middleton, WI; Innovative Concepts Engineering Inc., Greenbelt, MD; Trijicon, Inc., Wixon, MI; Univ of Missouri System DBA Missouri Univ of Science & Tech, Rolla, MO; Bridge 12 Technologies, Inc., Framingham, MA; Nuvotronics, Inc., Radford, VA; Boise State University, Boise, ID; BLASH, LLC, J dba Magnum Metals, Ashland, OH; RUAG Ammotec USA, Inc., Tampa, FL; All Foam Products, Co., Middlefield, OH; American Warrior Enterprises, Inc., Sioux Falls, SD; Systel, Inc., Sugar Land, TX; Dillon Aero, Inc., Scottsdale, AZ; and CatalystE, LLC, Huntsville, AL, have been added as parties to this venture.

Also, Jim Sutton & Associates LLC, Woodbridge, VA; LUXUS ARMS LLC, Mount Orab, OH; Applied Poleramic, Inc., Benicia, CA; Colorado School of Mines, Golden, CO; BlankSafe, LLC, San Juan Bautista, CA; Streamline Circuits Corp., Santa Clara CA; RDM Engineering, LLC, Oak Ridge, NJ; Harbour Mechanical Corporation, Hoboken, NJ; NPC Robotics Corp., Mound, MN; Materion Brush, Inc., Elmore, OH; Florida International University, Miami, FL; Strategic Resilience Group, LLC, Stafford, VA; O Base Design LLC, Wake Forest, NC; Darkblade Systems Corporation, Stafford, VA; California State University, Long Beach Research Foundation, Long Beach, CA; and OFS Laboratories, LLC, Somerset, NJ, have withdrawn as parties to this venture.

No other changes have been made in either the membership or planned activity of the group research project. Membership in this group research project remains open and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on November 4, 2019. A notice was published in the Federal Register pursuant to Section 6(b) of the Act on December 11, 2019 (84 FR 67754).

Suzanne Morris,
Chief, Premerger and Division Statistics Unit Antitrust Division.

[FR Doc. 2020-01823 Filed 1-30-20; 8:45 am]

BILLING CODE 4410-11-P